NATIONAL SCIENCE FOUNDATION

Advisory Committee for Mathematical and Physical Sciences; Notice of Meeting

In accordance with the Federal Advisory Committee Act (Pub. L. 92-463, as amended), the National Science Foundation announces the following meeting:

Name: Advisory Committee for Mathematical and Physical Sciences (#66).

Date/Time: April 7, 2016: 8:30 a.m. to 5:00 p.m.; April 8, 2016: 8:30 a.m. to 1:00 p.m.

Place: National Science Foundation, 4201 Wilson Boulevard, Suite 375, Arlington, Virginia 22230.

Type of Meeting: Open.

Contact Person: Eduardo Misawa, National Science Foundation, 4201 Wilson Boulevard, Suite 505, Arlington, Virginia 22230; Telephone: 703/292-8300.

Purpose of Meeting: To provide advice, recommendations and counsel on major goals and policies pertaining to mathematical and physical sciences programs and activities.

Agenda

Thursday, April 7, 2016; 8:30 a.m.-5:00 p.m.

• Registration and refreshments

• Meeting opening, FACA briefing and approval of February meeting minutes

• Update on MPS FY17 Budget Request

• MPS recent activities

• Update on partnerships

• Meeting with the NSF Director and COO

• Adjourn

Friday, April 8, 2016; 8:30 a.m.-1:00 p.m.

• Meeting opening

• Update on selected education and training programs

• Updates on NSF-wide advisory committees

• Adjourn

Dated: March 3, 2016.
Crystal Robinson,
Committee Management Officer.

[FR Doc. 2016-05158 Filed 3-8-16; 8:45 am]

BILLING CODE 7555-01-P